DEPARTMENT OF TRANSPORTATION

Federal Aviation Administration

Proposed Technical Standard Order (TSO)-C164, Night Vision Goggles

AGENCY: Federal Aviation Administration (DOT).

ACTION: Notice of availability and requests for public comment.

SUMMARY: This notice announces the availability of and requests comments on a proposed Technical Standard Order (TSO) C-164, Night Vision Goggles. This proposed TSO tells persons seeking a TSO authorization or letter of design approval what minimum performance standards (MPS) their Night Vision Goggles must meet to be identified with the applicable TSO marking.

DATES: Comments must be received on or before July 19, 2004.

ADDRESSES: Send all comments on the proposed technical standard order to: Federal Aviation Administration (FAA), Aircraft Certification Service, Aircraft Engineering Division, Avionic Systems Branch, AIR-130, 800 Independence Avenue, SW., Washington, DC 20591. ATTN: Mr. Richard Jennings. Or deliver comments to: Federal Aviation Administration, Room 815, 800 Independence Avenue, SW., Washington, DC 20591.

FOR FURTHER INFORMATION CONTACT: Mr. Richard Jennings, Federal Aviation Administration, c/o Atlanta Aircraft Certification Office, 1895 Phoenix Blvd., Suite 450, Atlanta, GA 30349. Telephone (770) 703-6090, FAX: (770) 703-6055.

SUPPLEMENTARY INFORMATION:

Comments Invited

Interested persons are invited to comment on the proposed TSO listed in this notice by submitting such written data, views, or arguments as they desire to the above specified address. Comments received on the proposed TSO may be examined, before and after the comment closing date, in Room 815, FAA Headquarters Building, 800 Independence Avenue, SW., Washington, DC 20591, weekdays except Federal holidays, between 8:30 a.m. and 4:30 p.m. All communications received on or before the closing date will be considered by the Director of the Aircraft Certification Service before issuing the final TSO.

Background

This TSO prescribes the minimum performance standards for night vision goggle equipment intended to provide the aircraft operator with a means of acquiring an enhanced view of the scene outside the aircraft in night visual meteorological conditions (VMC) operations, under current Title 14 CFR 91.155 basic visual flight rules (VFR) weather minimums, thus enhancing situation awareness. The equipment is portable (i.e., battery powered), with no interface to aircraft systems.

How To Obtain Copies

You may get a copy of the proposed TSO from the Internet at: http://av-info.faa.gov/tso.Tsopro/Proposed.htm. See section entitled FOR FURTHER INFORMATION CONTACT for the complete address if requesting a copy by mail. You may inspect the RTCA document at the FAA office location listed under ADDRESSES. Note however, RTCA documents are copyrighted and may not be reproduced without the written consent of RTCA, Inc. You may purchase copies of RTCA, Inc. documents from: RTCA, Inc., 1828 L Street, NW., Suite 815, Washington, DC 20036, or directly from their Web site http://www.rtca.org/.

Issued in Washington, DC, on June 14, 2004.
Susan J.M. Cabler,
Assistant Manager, Aircraft Engineering Division, Aircraft Certification Service.

[FR Doc. 04-13717 Filed 6-16-04; 8:45 am]

BILLING CODE 4910-13-M